DEPARTMENT OF COMMERCE

Foreign-Trade Zones Board

[B-34-2023]

Foreign-Trade Zone (FTZ) 72; Authorization of Production Activity; Dorel Juvenile Group Inc.; (Child Strollers, Walkers, and Car Seats); Columbus, Indiana

On May 15, 2023, Dorel Juvenile Group Inc. submitted a notification of proposed production activity to the FTZ Board for its facility within Subzone 72W, in Columbus, Indiana.

The notification was processed in accordance with the regulations of the FTZ Board (15 CFR part 400), including notice in the Federal Register inviting public comment (88 FR 34484, May 30, 2023). On September 12, 2023, the applicant was notified of the FTZ Board's decision that no further review of the activity is warranted at this time. The production activity described in the notification was authorized, subject to the FTZ Act and the FTZ Board's regulations, including section 400.14.

Dated: September 12, 2023.
Elizabeth Whiteman,
Executive Secretary.

[FR Doc. 2023-20036 Filed 9-14-23; 8:45 am]

BILLING CODE 3510-DS-P